COUNCIL ON ENVIRONMENTAL QUALITY

Interagency Ocean Policy Task Force—Final Recommendations of the Interagency Ocean Policy Task Force

AGENCY: Council on Environmental Quality.

ACTION: Notice of Availability, Interagency Ocean Policy Task Force's “Final Recommendations of the Interagency Ocean Policy Task Force”.

SUMMARY: On June 12, 2009, the President established an Interagency Ocean Policy Task Force, led by the Chair of the Council on Environmental Quality. The Task Force was charged with developing, with appropriate public input, a recommended national policy for the stewardship of the ocean, our coasts, and the Great Lakes; a framework for policy coordination, including specific recommendations to improve coordination and collaboration among Federal, State, tribal, and local authorities, and regional governance structures; an implementation strategy that identifies a set of priority objectives; and a framework for effective costal and marine spatial planning.

On July 19, 2010, the Task Force submitted its Final Recommendations to the President. They provide: (1) Our Nation's first ever National Policy for the Stewardship of the Ocean, Our Coasts, and the Great Lakes; (2) a strengthened governance structure to provide sustained, high-level, and coordinated attention to ocean, coastal, and Great Lakes issues; (3) a targeted implementation strategy that identifies and prioritizes nine categories for action that the United States should pursue; and (4) a framework for effective coastal and marine spatial planning that establishes a comprehensive, integrated, ecosystem-based approach to address conservation, economic activity, user conflict, and sustainable use of ocean, coastal, and Great Lakes resources.

DATES: None.

ADDRESSES: The Task Force's Final Recommendations are available at http://www.whitehouse.gov/oceans or by writing to The Council on Environmental Quality, Attn: Michael Weiss, 722 Jackson Place, NW., Washington, DC 20503.

FOR FURTHER INFORMATION CONTACT: Michael Weiss, Deputy Associate Director for Ocean and Coastal Policy, (202) 456-3892.

SUPPLEMENTARY INFORMATION: On June 12, 2009, President Obama issued a Memorandum to the Heads of Executive Departments and Agencies that established an Interagency Ocean Policy Task Force, led by the Chair of the Council on Environmental Quality. That Presidential memo charged the Task Force with, within 90 days, developing recommendations that include: (1) A national policy for the oceans, our coasts, and the Great Lakes; (2) a United States framework for policy coordination of efforts to improve stewardship of the oceans, our coasts, and the Great Lakes; and (3) an implementation strategy that identifies and prioritizes a set of objectives the United States should pursue to meet the objectives of a national policy. On September 17, 2009, the Task Force's Interim Report addressing these three items was issued for 30 days public comment. The comment period ended on October 17, 2009.

The Task Force was also charged with, within 180 days, developing a recommended framework for effective coastal and marine spatial planning. The memorandum provides that the framework should be “a comprehensive, integrated, ecosystem-based approach that addresses conservation, economic activity, user conflict, and sustainable use of ocean, coastal, and Great Lakes resources consistent with international law, including customary international law as reflected in the 1982 United Nations Convention on the Law of the Sea.” On December 14, 2009, the Task Force's Interim Framework addressing this item was issued for 60 days public comment. The comment period ended on February 12, 2010.

In response to this direction, the Task Force has completed its Final Recommendations of the Interagency Ocean Policy Task Force (Final Recommendations). The Task Force Final Recommendations set a new direction for improved stewardship of the ocean, our coasts, and the Great Lakes. They provide: (1) Our Nation's first ever National Policy for the Stewardship of the Ocean, Our Coasts, and the Great Lakes; (2) a strengthened governance structure to provide sustained, high-level, and coordinated attention to ocean, coastal, and Great Lakes issues; (3) a targeted implementation strategy that identifies and prioritizes nine categories for action that the United States should pursue; and (4) a framework for effective coastal and marine spatial planning that establishes a comprehensive, integrated, ecosystem-based approach to address conservation, economic activity, user conflict, and sustainable use of ocean, coastal, and Great Lakes resources.

The Final Recommendations are now available at the National Ocean Council Web site at http://www.whitehouse.gov/oceans.

Dated: July 27, 2010.
Nancy Sutley,
Chair, Council on Environmental Quality.

[FR Doc. 2010-18950 Filed 8-2-10; 8:45 am]

BILLING CODE 3125-W0-P